SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before November 3, 2025.

ADDRESSES: Send all comments to Alison Evans, Office of Investment and Innovation, 409 3rd Street SW, Suite 6300, Washington, DC 20416 with the subject line: “Regional Innovation Cluster Onboarding.”

FOR FURTHER INFORMATION CONTACT: Alison Evans, Innovation Ecosystem Strategist, (202) 856-7386, alison.evans@sba.gov, or Shauniece Carter, Interim Agency Clearance Officer, (202) 921-2198, Shauniece.Carter@sba.gov.

SUPPLEMENTARY INFORMATION: This is a new collection for the U.S. Small Business Administration's (SBA) Regional Innovation Cluster (RIC) Program. This data collection is an online form to be completed by small business and partner organization members of RICs funded through SBA. The form enables SBA to track membership of RICs.

Through the RIC Program, the SBA invests regional clusters—geographic concentrations of interconnected companies, specialized suppliers, academic institutions, service providers, and associated organizations with a specific industry focus—throughout the United States that span a variety of industries, ranging from energy and manufacturing to advanced defense technologies. The standardized membership information will enable SBA to more rigorously track small business support across individual RICs and the overall program.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: New data collection.

(1) Title: Regional Innovation Cluster Membership Onboarding Form.

Description of Respondents: Small business concerns and partner organizations who are members of Regional Innovation Clusters.

Total Estimated Annual Responses: 3,250.

Total Estimated Annual Hour Burden: 344.5.

Shauniece Carter,
Interim Agency Clearance Officer.

[FR Doc. 2025-16878 Filed 9-2-25; 8:45 am]

BILLING CODE 8026-09-P